INTERNATIONAL TRADE COMMISSION

[Investigation No. 731-TA-1465 (Final)]

4th Tier Cigarettes From Korea; Revised Schedule of the Final Phase of Antidumping Duty Investigation

AGENCY: United States International Trade Commission.

ACTION: Notice.

DATES: August 19, 2020.

FOR FURTHER INFORMATION CONTACT: Nitin Joshi ((202) 708-1669), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On July 15, 2020, the Commission established a schedule for the conduct of the final phase of the antidumping investigation (85 FR 46718, August 3, 2020). Subsequently, the Department of Commerce (“Commerce”) postponed the deadline for issuing the final determination to December 4, 2020 (85 FR 51011, August 19, 2020). The Commission, therefore, is revising its schedule to conform with Commerce's new schedule.

The Commission's revised dates in the schedule are as follows: The prehearing staff report will be placed in the nonpublic record on November 16, 2020; the deadline for filing prehearing briefs is November 23, 2020; requests to appear at the hearing should be filed on or before November 25, 2020; a prehearing conference is on December 1, 2020, if deemed necessary; the hearing is on Thursday, December 3, 2020 at 9:30 a.m.; the deadline for filing posthearing briefs and for written statements from any person who has not entered an appearance as a party is December 10, 2020; final release of information is on December 29, 2020; and final party comments are due on December 31, 2020.

For further information concerning the conduct of this phase of the investigation, hearing procedures, and rules of general application, consult the Commission's Rules of Practice and Procedure, part 201, subparts A and B (19 CFR part 201), and part 207, subparts A and C (19 CFR part 207).

Authority: This investigation is being conducted under authority of title VII of the Tariff Act of 1930; this notice is published pursuant to § 207.21 of the Commission's rules.

By order of the Commission.
Issued: September 16, 2020.
Lisa Barton,
Secretary to the Commission.

[FR Doc. 2020-20833 Filed 9-21-20; 8:45 am]

BILLING CODE 7020-02-P